DEPARTMENT OF HEALTH AND HUMAN SERVICES

Centers for Medicare & Medicaid Services

[Document Identifier: CMS-10755 and CMS-265-11]

Agency Information Collection Activities: Submission for OMB Review; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including the necessity and utility of the proposed information collection for the proper performance of the agency's functions, the accuracy of the estimated burden, ways to enhance the quality, utility, and clarity of the information to be collected, and the use of automated collection techniques or other forms of information technology to minimize the information collection burden.

DATES: Comments on the collection(s) of information must be received by the OMB desk officer by September 12, 2025.

ADDRESSES: Written comments and recommendations for the proposed information collection should be sent within 30 days of publication of this notice to www.reginfo.gov/public/do/PRAMain . Find this particular information collection by selecting “Currently under 30-day Review—Open for Public Comments” or by using the search function.

To obtain copies of a supporting statement and any related forms for the proposed collection(s) summarized in this notice, please access the CMS PRA website by copying and pasting the following web address into your web browser: https://www.cms.gov/Regulations-and-Guidance/Legislation/PaperworkReductionActof1995/PRA-Listing.

FOR FURTHER INFORMATION CONTACT: William Parham at (410) 786-4669.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: Revision of a currently approved collection; Title of Information Collection: Medicare Part D Electronic Prescribing Tools (42 CFR 423.128(d)(4)-(5) and 423.160(b)(1)); Use: The NCPDP SCRIPT standard is utilized to electronically transmit prescriptions for Part D drugs for Part D eligible individuals, as required at 42 CFR 423.160(b)(1). This standard also includes a series of transactions which enable ePA to take place when the electronically prescribed drug requires PA. The ePA transactions within the NCPDP SCRIPT standard enable the secure exchange of information relevant to ePA between the prescriber's electronic health record (EHR) and the insurer, specifically providing standardized information fields that are relevant for medication use, mandatory questions, transaction messaging, and standardized ePA data elements exchanging the PA questions and answers between prescribers and payers.

Beneficiaries can access the real-time benefit tools (RTBTs) online or by phone from the plan's call center. Although a goal of requiring a beneficiary RTBT is to ensure beneficiaries can readily access their formulary and benefit information, we retained a requirement for Part D sponsors to provide the same information by phone for beneficiaries who are less comfortable with computer or mobile access to their plan information.; Form Number: CMS-10755 (OMB control number: 0938-1396); Frequency: Yearly; Affected Public: Private and Businesses or other for-profits; Number of Respondents: 1,001; Total Annual Responses: 700,865; Total Annual Hours: 11,880. (For policy questions regarding this collection contact Craig Miner at 410-786-7937 or craig.miner@cms.hhs.gov.)

2. Type of Information Collection Request: Extension of a currently approved collection; Title of Information Collection: Independent Renal Dialysis Facility Cost Report; Use: Under the authority of sections 1815(a) and 1833(e) of the Act, CMS requires that providers of services participating in the Medicare program submit information to determine costs for health care services rendered to Medicare beneficiaries. CMS requires that providers follow reasonable cost principles under 1861(v)(1)(A) of the Act when completing the Medicare cost report (MCR). Regulations at 42 CFR 413.20 and 413.24 require that providers submit acceptable cost reports on an annual basis and maintain sufficient financial records and statistical data, capable of verification by qualified auditors.

ESRD facilities participating in the Medicare program submit these cost reports annually to report cost and statistical data used by CMS to determine reasonable costs incurred for furnishing dialysis services to Medicare beneficiaries and to affect the year-end cost settlement for Medicare bad debts. Form Number: CMS-265-11 (OMB control number: 0938-0236); Frequency: Annually; Affected Public: Private Sector, Business or other for-profits, State, Local, or Tribal Governments); Number of Respondents: 7,329; Total Annual Responses: 7,329; Total Annual Hours: 483,714. (For questions regarding this collection contact Keplinger, Jill C. at 410-786-4550.)

William N. Parham, III,
Director, Division of Information Collections and Regulatory Impacts, Office of Strategic Operations and Regulatory Affairs.

[FR Doc. 2025-15386 Filed 8-12-25; 8:45 am]

BILLING CODE 4120-01-P